DEPARTMENT OF HOMELAND SECURITY

Federal Emergency Management Agency

Agency Information Collection Activities: Submission for OMB Review; Comment Request

AGENCY: Federal Emergency Management Agency, DHS.

ACTION: Notice; 30-day notice and request for comments; Revision of a currently approved collection OMB Number 1660-0058, FEMA Form 90-58; FEMA Form 90-133; FEMA Form 90-32.

SUMMARY: The Federal Emergency Management Agency (FEMA) has submitted the following information collection to the Office of Management and Budget (OMB) for review and clearance in accordance with the requirements of the Paperwork Reduction Act of 1995. The submission describes the nature of the information collection, the categories of respondents, the estimated burden (i.e., the time, effort and resources used by respondents to respond) and cost, and includes the actual data collection instruments FEMA will use.

Collection of Information

Title: Fire Management Assistance Grant Program.

OMB Number: Revision of currently approved collection.

Abstract: The information collection is used by both State and FEMA regional staff to facilitate the declaration request and grant administration processes of Fire Management Assistance Grant Program (FMAGP), as well as end of year internal reporting of overall declaration requests and estimated grant outlays. The information collected allows the President to provide assistance to any State or local government for the mitigation, management, and control of any fire on public or private land that constitutes a major disaster. Also a part of this collection is the ability for the respondents to appeal a decision regarding a grant award, a requirement for awardees to provide a listing of benefits that might constitute a duplication if an award is made, and the ability for respondents to request training on changes and additions to the rules and regulations that affect grant applications.

Affected Public: State, local, or Tribal Government.

Number of Respondents: 18.

Estimated Time per Respondent: 12.6 hours: State Administrative Plan for Fire Management Assistance, 8 hours; FEMA State Agreement and Amendment, 1 hour; FEMA Form 90-58, 1 hour; FEMA Form 90-133, 10 minutes; FEMA Form 90-32, 20 minutes; Appeal letter, 1 hour; Duplication of Benefits notification, 1 hour; training request, 5 minutes.

Estimated Total Annual Burden Hours: 334.5.

Frequency of Response: On occasion.

Comments: Interested persons are invited to submit written comments on the proposed information collection to the Office of Information and Regulatory Affairs, Office of Management and Budget. Comments should be addressed to OMB Desk Officer for the Federal Emergency Management Agency, Department of Homeland Security, and sent via electronic mail to oira_submission@omb.eop.gov or faxed to (202) 395-6974. Comments must be submitted on or before August 1, 2008.

FOR FURTHER INFORMATION CONTACT: Requests for additional information or copies of the information collection should be made to Director, Records Management Division, 500 C Street, SW., Washington, DC 20472, Mail Drop Room 301, 1800 S. Bell Street, Arlington, VA 22202, facsimile number (202) 646-3347, or e-mail address FEMA-Information-Collections@dhs.gov.

Samuel C. Smith,
Acting Director, Records Management Division, Office of Management, Federal Emergency Management Agency, Department of Homeland Security.

[FR Doc. E8-14960 Filed 7-1-08; 8:45 am]

BILLING CODE 9110-10-P